DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed updates to the currently approved information collection project: “Medical Expenditures Panel Survey—Household and Medical Provider Components.” In accordance with the Paperwork Reduction Act of 1995, AHRQ invites the public to comment on this proposed information collection.

DATES: Comments on this notice must be received by November 28, 2023.

ADDRESSES: Written comments should be submitted to: Doris Lefkowitz, Reports Clearance Officer, AHRQ, by email at doris.lefkowitz@AHRQ.hhs.gov.

FOR FURTHER INFORMATION CONTACT: Doris Lefkowitz, AHRQ Reports Clearance Officer, (301) 427-1477, or by email at doris.lefkowitz@AHRQ.hhs.gov.

SUPPLEMENTARY INFORMATION:

Proposed Project

Medical Expenditures Panel Survey—Household and Medical Provider Components

AHRQ requests that OMB approve a change to AHRQ's collection of information for the Medical Expenditures Panel Survey—Household and Medical Provider Components: OMB Control number 0935-0118, expiration November 30, 2025. Requested changes are for the Household Component (MEPS-HC) only.

The MEPS was initiated in 1996. Each year a new panel of sample households is selected. Recent annual MEPS-HC sample sizes average about 13,500 households. Data can be analyzed at either the person, family, or event level. The panel design of the survey, which includes 5 rounds of interviews covering 2 full calendar years, provides data for examining person level changes in selected variables such as expenditures, health insurance coverage, and health status.

This research has the following goals:

(1) To produce nationally representative estimates of health care use, expenditures, sources of payment, and health insurance coverage for the U.S. civilian noninstitutionalized population.

(2) To produce nationally representative estimates of respondents' health status, demographic and socio-economic characteristics, employment, access to care, and satisfaction with health care.

Proposed Changes for the Fall 2024 MEPS-HC:

• Core MEPS Interview—Seven economic burden questions will be added to the Core interview. Five of these questions come from the Preventive Care Services Self-Administered Questionnaire (PSAQ), and two are new to the MEPS. The specific topics of the five questions moving from the PSAQ are partial and late payments for bills, having been contacted by debt collection agencies, and ability to pay for unexpected expenses. The questions were modified to be asked at the household level. These topics are important for understanding the context families face in paying for health care. The new questions asking about medical debt are modified versions of questions used in the Survey of Income and Program Participation (SIPP). The SIPP asks the question at a person level; AHRQ has modified it to be asked at the household level. Collecting medical debt amounts will enable analyses of how medical debt is related to health care access, use, health outcomes, and financial status. In addition, the wording for eight food security questions has been slightly modified to allow for proxy responses; thus, all households will be asked these questions.

Preventive Care Services Self-Administered Questionnaire (PSAQ)—The PSAQ will have the following changes for Fall 2024:

• Removing five economic burden questions, which will be added to the Core interview;

• Combining the Male and Female PSAQ questionnaires into a single questionnaire and revising the sex-specific questions accordingly;

• Adding Sexual Orientation and Gender Identity (SOGI) questions to the end of the questionnaire;

• Changing the age-specific skips to reflect new recommendations for specific preventive health screening procedures;

• Creating a web-based mode of completion as an alternative option to the traditional pen-and-paper-based survey.

The incorporation of SOGI questions into the PSAQ aligns with the objectives outlined in Executive Order 14075, titled “Advancing Equality for Lesbian, Gay, Bisexual, Transgender, Queer, and Intersex Individuals.” The inclusion of these questions necessitated further adjustments to the questionnaires, including the consolidation of the traditionally segregated male and female questionnaires into a unified form. Optimally incorporating sex-specific preventive care questions (e.g., prostate cancer screening) in surveys in a manner that respects all gender identities requires balancing multiple competing factors. AHRQ consulted with federal agencies fielding surveys with SOGI and preventive care questions, and they have not yet modified their preventive care questions to account for gender minorities. For this initial attempt in the MEPS, AHRQ balanced the following considerations: respect for gender minority respondents, cognitive burden among cisgender respondents, minimizing skip patterns to maintain consistency between pen-and-paper and web-based modes of the PSAQ, and the strong expectation that the number of gender minority respondents in the relevant age ranges will be too small to support estimates of receipt of sex-specific preventive services in this population. AHRQ will continue to monitor best practices and empirical studies by consulting with NCHS and the National Cancer Institute (NCI) to revise the PSAQ when it is fielded again in the future.

• Cancer Self-Administered Questionnaire (Cancer SAQ)—The NCI has collaborated in previous years with AHRQ to create the MEPS Experiences with Cancer Supplement, which oversampled households with cancer survivors from the prior year National Health Interview Survey (NHIS) and fielded a special survey about economic burden and access to care in cancer survivors. Due to a change in the NHIS sample design, MEPS will not be able to oversample cancer survivors in the 2024 data collection. The current effort will field an updated version of the MEPS Experiences with Cancer Survey in the Fall 2024 MEPS-HC. The new version of the survey will include most of the same questions as the earlier survey to allow comparisons of trends and will replace some survey items that are now less critical or available from other data sources with new questions on employment impacts and workplace accommodations; survivorship care; social determinants of health; and social isolation and support.

This study is being conducted by AHRQ through its contractor, Westat, pursuant to AHRQ's statutory authority to conduct and support research on healthcare and on systems for the delivery of such care, including activities with respect to the cost and use of health care services and with respect to health statistics and surveys. 42 U.S.C. 299a(a)(3) and (8); 42 U.S.C. 299b-2.

Method of Collection

The MEPS-HC uses a combination of computer assisted personal interviewing (CAPI), computer assisted video interviewing (CAVI), and self-administered paper and web questionnaires, to collect information about each household member, and the survey builds on this information from interview to interview. CAVI is a new data collection technology and offers the best of both telephone and in-person interviewing, while offering opportunities for cost savings and more accurate reporting.

Estimated Annual Respondent Burden

Exhibit 1 shows the estimated annualized burden hours for the respondents' time to participate in the MEPS-HC and the MEPS-MPC.

The MEPS-HC Core Interview will be completed by 11,750 “family level” respondents. Since the MEPS-HC typically consists of 5 rounds of interviewing covering a full two years of data, the annual average number of responses per respondent is 2.5 responses per year. The MEPS-HC core requires an average response time of 88 minutes to administer. The Adult SAQ is completed once during the 2-year panel, in rounds 2 and 4 during odd numbered years, making the annualized average 0.5 times per year. The Adult SAQ will be completed by 5,688 adults and requires an average of 7 minutes to complete. The PSAQ is completed once during the 2-year panel, in rounds 2 and 4 during even numbered years, making the annualized average 0.5 times per year. The PSAQ will be completed by 5,688 adults and requires an average of 7 minutes to complete. The Diabetes Care Survey will be completed by 1,000 persons each year and requires 3 minutes to complete. The Cancer SAQ will be completed by 1,500 persons each year and requires 20 minutes to complete. Authorization forms for the MEPS-MPC and Pharmacy Survey will be completed by 11,750 respondents. Each respondent will complete an average of 4.66 forms each year, with each form requiring an average of 3 minutes to complete. A validation interview will be conducted with 4,225 respondents each year and requires 5 minutes to complete. The total burden hours for the respondents' time to participate in the MEPS-HC is estimated to be 47,387 hours.

The MEPS-MPC Contact Guide/Screening Call will be conducted with 54,758 providers and pharmacies each year and requires 5 minutes to complete. The Home Care Providers Event Form will be completed by 886 providers, with each provider completing an average of 5.8 forms and each form requiring 3 minutes to complete. The Office-based Providers Event Form will be completed by 14,950 providers. Each provider will complete an average of 4.3 forms and each form requires 3 minutes to complete. The Separately Billing Doctors Event Form will be completed by 12,690 providers, with each provider completing 1.4 forms on average, and each form requiring 3 minutes to complete. The Hospital Event Form will be completed by 8,302 hospitals or HMOs. Each hospital or HMO will complete 7.5 forms on average, with each form requiring 3 minutes to complete. The Institutions (non-hospital) Event Form will be completed by 118 institutions, with each institution completing 1.3 forms on average, and each form requiring 3 minutes to complete. The Pharmacy Event Form will be completed by 9,079 pharmacies. Each pharmacy will complete 37.6 forms on average, with each form requiring 3 minutes to complete. The total burden hours for the respondent's time to participate in the MEPS-MPC is estimated to be 29,111 hours. The total annual burden hours for the MEPS-HC and MPC is estimated to be 76,498 hours.

Exhibit 2 shows the estimated annual cost burden associated with the respondents' time to participate in this information collection. The annual cost burden for the MEPS-HC is estimated to be $1,410,236; the annual cost burden for the MEPS-MPC is estimated to be $569,200. The total annual cost burden for the MEPS-HC and MPC is estimated to be $1,979,436.

Exhibit 1—Estimated Annualized Burden Hours
Form name | Number of respondents | Number of responses per respondent | Hours per response | Total burden hours
MEPS-HC
MEPS-HC Core Interview | 11,750 | 2.5 | 88/60 | 43,083
Adult SAQ * | 5,688 | 0.5 | 7/60 | 332
Preventive Care SAQ (PSAQ) ** | 5,688 | 0.5 | 7/60 | 332
Diabetes Care Survey (DCS) | 1,000 | 1 | 3/60 | 50
Cancer SAQ | 1,500 | 1 | 20/60 | 500
Authorization forms for the MEPS-MPC | 11,750 | 4.66 | 3/60 | 2,738
Provider and Pharmacy Survey
MEPS Validation Interview | 4,225 | 1 | 5/60 | 352
Subtotal for the MEPS-HC | 41,600 |  |  | 47,387
MEPS-MPC
MPC Contact Guide/Screening Call | 54,758 | 1 | 5/60 | 4,563
Home Care Providers Event Form | 886 | 5.8 | 3/60 | 257
Office-based Providers Event Form | 14,950 | 4.3 | 3/60 | 3,214
Separately Billing Doctors Event Form | 12,690 | 1.4 | 3/60 | 888
Hospitals & HMOs (Hospital Event Form) | 8,302 | 7.5 | 3/60 | 3,113
Institutions (non-hospital) Event Form | 118 | 1.3 | 3/60 | 8
Pharmacies Event Form | 9,079 | 37.6 | 3/60 | 17,068
Subtotal for the MEPS-MPC | 100,783 |  |  | 29,111
Grand Total | 142,383 |  |  | 76,498
* The Adult SAQ is completed once every two years, on the odd numbered years.
** The PSAQ is completed once every two years, on the even numbered years.

Exhibit 2—Estimated Annualized Cost Burden
Form name | Number of respondents | Total burden hours | Average hourly wage rate | Total cost burden
MEPS-HC
MEPS-HC Core Interview | 11,750 | 43,083 | * $29.76 | $1,282,150
Adult SAQ | 5,688 | 332 | * 29.76 | 9,880
Preventive Care SAQ (PSAQ) | 5,688 | 332 | * 29.76 | 9,880
Diabetes Care Survey (DCS) | 1,000 | 50 | * 29.76 | 1,488
Cancer SAQ | 1,500 | 500 | * 29.76 | 14,880
Authorization forms for the MEPS-MPC Provider and Pharmacy Survey | 11,750 | 2,738 | * 29.76 | 81,483
MEPS Validation Interview | 4,225 | 352 | * 29.76 | 10,475
Subtotal for the MEPS-HC | 41,600 | 47,387 |  | 1,410,236
MEPS-MPC
MPC Contact Guide/Screening Call | 54,758 | 4,563 | ** 19.84 | 90,530
Home care Providers Event Form | 886 | 257 | ** 19.84 | 5,099
Office-based Providers Event Form | 14,950 | 3,214 | ** 19.84 | 63,766
Separately Billing Doctors (SBD) Event Form | 12,690 | 888 | ** 19.84 | 17,618
Hospitals & HMOs (Hospital Event Form | 8,302 | 3,113 | ** 19.84 | 61,762
Institutions (non-hospital) Event Form | 118 | 8 | ** 19.84 | 159
Pharmacies Event Form | 9,079 | 17,068 | *** 19.35 | 330,266
Subtotal for the MEPS-MPC | 100,783 | 29,111 |  | 569,200
Grand Total | 142,383 | 77,067 |  | 1,979,436
* Mean hourly wage for All Occupations (00-0000).
** Mean hourly wage for Medical Secretaries (43-6013).
*** Mean hourly wage for Pharmacy Technicians (29-2052).
Occupational Employment Statistics, May 2022 National Occupational Employment and Wage Estimates United States, U.S. Department of Labor, Bureau of Labor Statistics.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 26, 2023.
Marquita Cullom,
Associate Director.

[FR Doc. 2023-21473 Filed 9-28-23; 8:45 am]

BILLING CODE 4160-90-P